DEPARTMENT OF HEALTH AND HUMAN SERVICES

Centers for Medicare & Medicaid Services

42 CFR Parts 412

[CMS-1804-CN]

RIN 0938-AV31

Medicare Program; Inpatient Rehabilitation Facility Prospective Payment System for Federal Fiscal Year 2025 and Updates to the IRF Quality Reporting Program; Correction

AGENCY: Centers for Medicare & Medicaid Services (CMS), Department of Health and Human Services (HHS).

ACTION: Final rule; correction.

SUMMARY: This document corrects technical and typographical errors in the final rule that appeared in the August 6, 2024 Federal Register entitled “Medicare Program; Inpatient Rehabilitation Facility Prospective Payment System for Federal Fiscal Year 2025 and Updates to the IRF Quality Reporting Program” (referred to hereafter as the “FY 2025 IRF final rule”). The effective date of the FY 2025 IRF final rule is October 1, 2024.

DATES: This correction is effective October 1, 2024.

FOR FURTHER INFORMATION CONTACT: Kia Burwell, (410) 786-7816.

SUPPLEMENTARY INFORMATION:

I. Background

In FR Doc. 2024-16911 of August 6, 2024, the FY 2025 IRF final rule (89 FR 64276), there were technical and typographical errors that are identified and corrected in this correcting document. These corrections are effective as if they had been included in the FY 2025 IRF final rule. Accordingly, the corrections are effective October 1, 2024.

II. Summary of Errors

A. Summary of Errors in the Preamble

On page 64304, we made a typographical error in the standard payment amount calculated following the application of the budget neutrality factor for the FY 2025 wage index due to the number being transposed in the original text.

A technical error in the calculation of the final FY 2025 IRF PPS wage indexes require us to recalculate the impact analysis provided on pages 64335 and 64336 in Table 17. Discussions of these errors are found in section IV. of this document.

B. Summary of Errors and Corrections Posted on the CMS Website for the IRF Wage Index

As discussed in the FY 2025 IRF PPS final rule (89 FR 64289 through 64291), in developing the wage index to be applied to IRFs under the IRF PPS, we use the updated, pre-reclassified, pre-rural floor hospital inpatient PPS (IPPS) wage data, exclusive of the occupational mix adjustment. For FY 2025, the updated, unadjusted, pre-reclassified, pre-rural floor IPPS wage data used under the IRF PPS are for cost reporting periods beginning on or after October 1, 2020, and before October 1, 2021 (FY 2021 cost report data), as discussed in the final rule entitled “Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes” (89 FR 69896) (hereinafter referred to as the FY 2025 IPPS final rule). In calculating the wage index under the FY 2025 IPPS final rule, we made an inadvertent error related to the calculation of the wage index. This error is identified, discussed, and corrected in the document entitled “Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes; Correction,” published elsewhere in this issue of the Federal Register. The error that affects the unadjusted, pre-reclassified, pre-rural floor IPPS wage data and thereby affects the IRF PPS wage data was an error resulting from excluding the Medicare cost report wage data for CMS Certification Number (CCN) 260163, which caused a change in the wage index for rural Missouri. The wage data for this hospital has been restored and included in the wage index.

Thus, the use of the corrected wage data for the rural Missouri CBSA 26 required the recalculation of the final FY 2025 IRF PPS wage indexes. Additionally, as discussed in the FY 2025 IRF PPS final rule, adjustments or updates to the IRF wage index made under section 1886(j)(6) of the Social Security Act (the Act) must be made in a budget-neutral manner. Due to the recalculation and subsequent revision of the final FY 2025 IRF PPS wage indexes, it was necessary to recalculate the FY 2025 IRF PPS wage index budget neutrality factor as well, with no subsequent changes noted. Due to the recalculated wage indexes, we recalculated the impact analysis provided in Table 17 of the FY 2025 IRF PPS final rule (89 FR 64335 through 64337). The correction to this error is found in section IV. of this document.

We are correcting the wage index in Table B setting forth the wage indexes for rural areas based on CBSA labor market areas (Table B), which is available exclusively on the CMS website at https://www.cms.gov/medicare/payment/prospective-payment-systems/inpatient-rehabilitation. Table B has been updated to reflect the error in the wage index for the State of Missouri discussed in this correcting document, and we are republishing the wage indexes in Tables A and B accordingly on the CMS website at https://www.cms.gov/medicare/payment/prospective-payment-systems/inpatient-rehabilitation.

III. Waiver of Proposed Rulemaking

Under section 553(b) of the Administrative Procedure Act (the APA) (5 U.S.C. 553(b)), the agency is required to publish a notice of proposed rulemaking in the Federal Register before the provisions of a rule take effect. Similarly, section 1871(b)(1) of the Act requires the Secretary to provide for notice of the proposed rule in the Federal Register and provide a period of not less than 60 days for public comment. In addition, section 553(d) of the APA and section 1871(e)(1)(B)(i) of the Act mandate a 30-day delay in effective date after issuance or publication of a rule. Sections 553(b)(B) and 553(d)(3) of the APA provide for exceptions from the APA notice and comment, and delay in effective date requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal notice and comment rulemaking procedures for good cause if the agency makes a finding that the notice and comment process is impracticable, unnecessary, or contrary to the public interest, and includes a statement of the finding and the reasons for it in the rule. In addition, section 553(d)(3) of the APA and section 1871(e)(1)(B)(ii) of the Act allow the agency to avoid the 30-day delay in effective date where the agency finds that such delay is contrary to the public interest and the agency includes in the rule a statement of the finding and the reasons for it.

In our view, this correcting document does not constitute a rulemaking that would be subject to these requirements. This document merely corrects technical errors in the FY 2025 IRF final rule. The corrections contained in this document are consistent with, and do not make substantive changes to, the policies and payment methodologies that were proposed, subject to notice and comment procedures, and adopted in the FY 2025 IRF final rule. As a result, the corrections made through this correcting document are intended to resolve inadvertent errors so that the rule accurately reflects the policies adopted in the final rule. Even if this were a rulemaking to which the notice and comment and delayed effective date requirements applied, we find that there is good cause to waive such requirements. Undertaking further notice and comment procedures to incorporate the corrections in this document into the FY 2025 IRF final rule or delaying the effective date of the corrections would be contrary to the public interest because it is in the public interest to ensure that the rule accurately reflects our policies as of the date they take effect. Further, such procedures would be unnecessary because we are not making any substantive revisions to the final rule, but rather, we are simply correcting the Federal Register document to reflect the policies that we previously proposed, received public comment on, and subsequently finalized in the final rule. For these reasons, we believe there is good cause to waive the requirements for notice and comment and delay in effective date.

IV. Correction of Errors

In FR Doc. 2024-16911 of August 6, 2024 (89 FR 64276), make the following corrections:

1. On page 64304, third column; third full paragraph, line 20, the Standard Payment Amount that reads “$18,592” is corrected to read “$18,952”.

2. On page 64335, Table 17 titled “IRF Impact for FY 2025 (Columns 4 through 7 in percentage)”, row 13, column 5, the FY 2025 Wage Index (5% cap), FY 2024 CBSA delineations, and Labor-Related Share the value that reads “0.5” is corrected to read “0.6”.

3. On page 64336, Table 17 titled “IRF Impact for FY 2025 (Columns 4 through 7 in percentage)”, row 13,

a. Column 5, the FY 2025 Wage Index (5% cap), FY 2024 CBSA delineations, and Labor-Related Share value that reads “1.1” is corrected to read ”1.2”.

b. Column 9, the Total Percent Change that reads “3.6” is corrected to read “3.8.”

Elizabeth J. Gramling,
Executive Secretary to the Department, Department of Health and Human Services.

[FR Doc. 2024-22497 Filed 9-27-24; 4:15 pm]

BILLING CODE 4120-01-P